DEPARTMENT OF AGRICULTURE

Submission for OMB Review; Comment Request

March 12, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques and other forms of information technology.

Comments regarding this information collection received by April 16, 2018 will be considered. Written comments should be addressed to: Desk Officer for Agriculture, Office of Information and Regulatory Affairs, Office of Management and Budget (OMB), New Executive Office Building, 725 17th Street NW, Washington, DC, 20503. Commentors are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Volunteer Application and Agreement for Natural and Cultural Resource Agencies.

OMB Control Number: 0596-0080.

Summary of Collection: The Volunteer Act of 1972, (Pub. L. 92-300), as amended, authorizes Federal land management agencies to use volunteers and volunteer organizations to plan, develop, maintain and manage, where appropriate, trails and campground facilities, improve wildlife habitat, and perform other useful and important conservation services throughout the Nation. Participating agencies in Department of Agriculture: Forest Service and National Resources Conservation Service; Department of the Interior: National Park Service, Fish and Wildlife Service, Bureau of Land Management, Bureau of Reclamation, Bureau of Indian Affairs, Office of Surface Mining Reclamation and Enforcement, and U.S. Geological Survey; Department of Defense: U.S. Army Corps of Engineers and Department of Commerce: National Oceanic and Atmospheric; Administration—Office of National Marine Sanctuaries. Agencies will collect information using Common Forms OF 301—Volunteer Service Application; OF 301a Volunteer Service Agreement and OF 301b Volunteer Service Agreement and Sign-up Form for Groups.

Need and Use of the Information: Agencies will collect the names, addresses, and certain information about individuals who are interested in public service as volunteers. The information is used by the agencies as a position application, to review and determine if a potential volunteer is a good fit for a particular volunteer position. The OF-301a is used to enroll volunteers, collect contact information, parent or guardian approval, describe duties, project locations, schedules and any reimbursements, describe safety requirements and delineate any other terms of service. The OF-301b form is used to record the name and contact information of the volunteer group, and the names and signatures of volunteers participating in a project. If the information is not collected, participating natural resource agencies will be unable to recruit and/or screen volunteer applicants or administer/run volunteer programs that are crucial to assisting these agencies in fulfilling their missions.

Description of Respondents: Individuals or households.

Number of Respondents: 516,134.

Frequency of Responses: Reporting: On occasion; Other: One time.

Total Burden Hours: 77,941.

Ruth Brown,
Departmental Information Collection Clearance Officer.

[FR Doc. 2018-05250 Filed 3-14-18; 8:45 am]

BILLING CODE 3411-15-P